DEPARTMENT OF HEALTH AND HUMAN SERVICES

Health Resources and Services Administration

[Announcement Number: HRSA-03-094]

Medicare Rural Hospital Flexibility Program Evaluation Cooperative Agreement

AGENCY: Health Resources and Services Administration, HHS.

ACTION: Correction of deadline dates and Catalog of Federal Domestic Assistance (CFDA) number.

SUMMARY: In notice document FR Doc. 03-13758, in the issue of Tuesday, June 3, 2003, make the following corrections:

On page 33167, under the section SUMMARY, in the second column, line three, the language “postmarked on or before June 30, 2003,” is corrected to read “postmarked on or before July 12, 2003”.

On page 33167, under the section “Name of Grant Program:”, in the second column, line 14, the language “number 93.241.” is corrected to read “number 93.223.”

On page 33167, under the section “Submitting Applications:”, in the second column, line 32, the language “4 p.m. eastern time on July 3, 2003. An” is corrected to read “4 p.m. eastern daylight time on July 12, 2003. An”.

Dated: June 23, 2003.
Jane M. Harrison,
Director, Division of Policy Review and Coordination.

[FR Doc. 03-16361 Filed 6-27-03; 8:45 am]

BILLING CODE 4165-15-P